DEPARTMENT OF STATE

[Public Notice: 9790]

Nominations for Lead Authors or Review Editors on the First Special Report To Be Undertaken by the Intergovernmental Panel on Climate Change During the Sixth Assessment Report (AR6) Cycle

The United States Department of State, in cooperation with the United States Global Change Research Program, seeks nominations for U.S. scientists with requisite expertise to serve as Lead Authors or Review Editors on the first Special Report to be undertaken by the Intergovernmental Panel on Climate Change (IPCC) during the Sixth Assessment Report (AR6) cycle. The outline for the “Special Report on Impacts of Global Warming of 1.5 °C above Pre-Industrial Levels and Related Global Greenhouse Gas Emission Pathways, in the Context of Strengthening the Global Response to the Threat of Climate Change, Sustainable Development, and Efforts to Eradicate Poverty” was adopted at the 44th session of the IPCC Plenary.

Nominations may be submitted at https://contribute.globalchange.gov/. This is an Open Call. All registered users can nominate U.S. citizens and permanent lawful residents to be considered by the IPCC Science Steering Committee (SSC). The call for nominations will close on Tuesday, December 6, 2016, and a nominations package transmitted on behalf of the U.S. IPCC Focal Point on December 11th. The SSC will complete its work and issue appointment memos in late January 2017.

The United Nations Environment Programme (UNEP) and the World Meteorological Organization (WMO) established the IPCC in 1988. In accordance with its mandate and as reaffirmed in various decisions by the Panel, the major activity of the IPCC is to prepare comprehensive and up-to-date assessments of policy-relevant scientific, technical, and socio-economic information for understanding the scientific basis of climate change, potential impacts, and options for mitigation and adaptation.

This notice will be published in the Federal Register.

Christo Artusio,
Director, Office of Global Change, Department of State.

Drafted by:

Farhan Akhtar, OES/EGC, x7-3489

Cleared by:

Christo Artusio, OES/E (acting) (ok)

Trigg Talley, S/SECC (info)

Rick Driscoll, OES/EGC (ok)

Andy Neustaetter, L/OES (ok)

Esther Bell, OES/PPO (ok)

Teresa Hobgood, OES/Congressional (ok)

[FR Doc. 2016-28841 Filed 11-30-16; 8:45 am]

BILLING CODE P